DEPARTMENT OF ENERGY

Site-Wide Environmental Impact Statement for Lawrence Livermore National Laboratory

AGENCY: National Nuclear Security Administration.

ACTION: Notice of intent.

SUMMARY: The National Nuclear Security Administration's (NNSA) Oakland Operations Office (OAK) announces its intent to prepare a Site-Wide Environmental Impact Statement (SWEIS) to evaluate the environmental effects of the operation of the Lawrence Livermore National Laboratory (LLNL) in Livermore, California. The SWEIS is being prepared in accordance with the Council on Environmental Quality's National Environmental Policy Act (NEPA) Implementing Regulations (40 CFR Parts 1500-1508) and the DOE NEPA Implementing Procedures (10 CFR Part 1021). The SWEIS will analyze the potential environmental impacts associated with continuing current LLNL operations and foreseeable new and/or modified operations and facilities for approximately the next ten years. The No Action Alternative, to be analyzed in the SWEIS, is to continue current LLNL operations of programs in support of assigned missions, without foreseeable new operations and facilities for the next ten years. A reduced operation alternative will also be analyzed. The SWEIS will utilize the baseline information from the previous LLNL SWEIS (Environmental Impact Statement and Environmental Impact Report for the Continued Operation of Lawrence Livermore National Laboratories and Sandia National Laboratories, Livermore, August 1992), to the extent possible. The purpose of this Notice is to invite public participation in the process and to encourage public involvement on the scope and alternatives that should be considered.

DATES: NNSA invites other federal agencies, State and local governments, Native American Tribes and the public to comment on the scope of this SWEIS. The public scoping period begins with the publication of this Notice in the Federal Register and will continue until August 13, 2002. Written scoping comments postmarked by that date will be considered in the preparation of the draft SWEIS. Comments postmarked or received by e-mail after that date will be considered to the extent practicable.

Two public scoping meetings will be held at two different locations as indicated below. This information will also be published in local newspapers in advance of the meetings. Any necessary changes will be announced in the local media.

July 10, 2002, at 1:00 p.m. and 6:00 p.m., Double Tree Club (formerly the Holiday Inn), 720 Las Flores Rd., Livermore, CA 94550, (925) 443-4950

July 11, 2002, at 1:00 p.m. and 6:30 p.m., Holiday Inn Express, 3751 N. Tracy Blvd., Tracy, CA 95304, (209) 830-8500

The following website may be accessed for additional information. http://www-envirinfo.llnl.gov/. A toll free hotline 1-877 388-4930 has been established for leaving messages. The hotline will have instructions on how to record comments and requests for information.

ADDRESSES: Written comments on the scope of the SWEIS or requests for information should be sent to: Mr. Thomas Grim, Document Manager, U.S. Department of Energy, 1301 Clay Street, 700N, Oakland, CA 94612-5208, Phone (925) 422-0704.

FOR FURTHER INFORMATION CONTACT: For general information on the NNSA NEPA process, please contact: Mr. James J. Mangeno, NNSA NEPA Compliance Officer, U.S. Department of Energy/NNSA, 1000 Independence Avenue, SW., Washington, DC 20585; or telephone 1-800-832-0885, ext. 6-8395; or Ms. Janet Neville, Oakland Operations Office NEPA Compliance Officer, U.S. Department of Energy, Oakland Operations Office, 1301 Clay Street, 700N, Oakland, CA 94612-5208, or telephone (510) 637-1813. For general information on the DOE NEPA process, please contact: Ms. Carol M. Borgstrom, Director, Office of NEPA Policy and Compliance (EH-42), U.S. Department of Energy, 1000 Independence Avenue, SW., Washington, DC 20585. Ms. Borgstrom can be reached at 202-586-4600, or by leaving a message at 1-800-472-2756.

SUPPLEMENTARY INFORMATION:

LLNL Mission

LLNL has been in existence for 50 years. LLNL has an annual budget of approximately $1.4 billion and employs approximately 8,000 people. The LLNL main site is located approximately 40 miles (65 kilometers) east of San Francisco in the Livermore Valley adjacent to the City of Livermore. The LLNL Experimental Test Facility (Site 300) is a high-explosives test site located 12 miles (20 kilometers) southeast of the City of Livermore between Livermore and Tracy, California.

National security is LLNL's primary mission. The Laboratory is focusing its efforts on two of the nation's top priorities: ensuring the safety, security, and reliability of the United States nuclear stockpile; and preventing and countering the proliferation of weapons of mass destruction. To support this mission LLNL will bring into operation significant new capabilities required for nuclear weapons stockpile stewardship. These include the National Ignition Facility and the Terascale Simulation Facility that is part of the Advanced Simulation and Computing Program (aka ASCI). In addition, LLNL will continue to apply its scientific and engineering capabilities to develop advanced defense technologies to increase the effectiveness of United States military forces.

Meeting National Needs

The Department of Energy and NNSA have enduring missions that are vital to the national interest. In addition to its national security mission, the Department's priorities include enhancing the nation's energy security by developing and making available clean energy; cleaning up former nuclear weapons complex sites; finding more effective technology for minimizing, treating, and disposing of nuclear waste; and leveraging science and technology to advance fundamental knowledge and economic competitiveness. The Laboratory's mission includes: energy security and long-term energy needs, environmental assessment and management, nuclear materials stewardship, advancing biosciences to improve human health, and pursuing breakthroughs in fundamental sciences and applied technology.

Role of the SWEIS in the DOE NEPA Compliance Strategy

The SWEIS will be prepared pursuant to the National Environmental Policy Act (NEPA) of 1969 (42 U.S.C. 4321 et seq.), the Council on Environmental Quality's NEPA regulations (40 CFR 1500-1508) and the DOE NEPA Implementing Procedures (10 CFR Part 1021). The DOE has a policy (10 CFR 1021.330) to prepare site-wide documents for certain large, multiple-facility sites, such as LLNL. The purpose of a SWEIS is to provide the public with an analysis of the potential environmental impacts from ongoing and reasonably foreseeable new and modified operations and facilities, and reasonable alternatives at a DOE site, to provide a basis for site-wide decision making, and to improve and coordinate agency plans, functions, programs, and resource utilization. The SWEIS provides an overall NEPA baseline so that the environmental effects of proposed future changes in programs and activities can be compared to the baseline. A SWEIS also enables DOE to “tier” its later NEPA project-specific reviews at a site to eliminate repetitive discussion of the same issues in future project-specific NEPA studies, and to focus on the actual issues ready for decisions at each level of environmental review. The NEPA process allows for Federal, state and local governments, Native American Tribes, and public participation in the environmental review process. The Final Environmental Impact Statement and Environmental Impact Report for Continued Operation of Lawrence Livermore National Laboratory and Sandia National Laboratories, Livermore [DOE/EIS-0157], August 1992, is the existing site-wide document for LLNL. In addition, a Supplement Analysis for Continued Operation of LLNL and SNL, California (DOE/EIS-0157-SA-01), dated March 1999, conducted a 5-year review and concluded that the 1992 SWEIS remained adequate for LLNL. To the extent possible, this SWEIS will utilize and update the data developed for the 1992 and 1999 documents. There is a potential to adopt this document for California Environmental Quality Act purposes, as was done in 1992.

Preliminary Alternatives

The scoping process is an opportunity for the public to assist NNSA in determining the alternatives and issues for analysis. NNSA welcomes specific comments or suggestions on the content of these alternatives, or on other alternatives that could be considered. A preliminary set of alternatives and issues for evaluation in the SWEIS is identified below. Additionally, during the development of the SWEIS, DOE may consider other alternatives that are judged to be reasonable.

No Action Alternative, Continuing Present Operations

The No Action Alternative would continue current facility operations throughout LLNL in support of assigned missions. NEPA regulations require analysis of the No Action Alternative to provide a benchmark for comparison with environmental effects of the other alternatives. This alternative includes the programs and activities described above in the LLNL Mission section and those activities for which NEPA review is already underway. Additionally, the No Action Alternative will include any interim actions that proceed independent of the SWEIS.

Proposed Action Alternative

This alternative would include the No Action Alternative as described above. In addition this alternative could include an increase in facility operations to levels that can be supported by current facilities, and operations that may require new or modified facilities, that are reasonably foreseeable over the next 10 years. Activities in support of this alternative could include revised waste management strategies that may consider additional options for on-site treatment and storage, and off-site disposition. The programmatic context for this alternative is the continued support of existing missions, and receipt of additional missions or projects, which need to be supported. The following two new operations, as a minimum, will be included in the SWEIS.

National Ignition Facility

The Record of Decision (ROD) (61 FR 68014) for the Stockpile Stewardship and Management, Programmatic Environmental Impact Statement (SSM PEIS) indicated that the Department would construct and operate the National Ignition Facility at the Lawrence Livermore National Laboratory as a key component of the NNSA's science-based stewardship of the nation's nuclear weapons stockpile. A lawsuit challenging the adequacy of the SSM PEIS alleged that there were new DOE proposals to conduct experiments at the NIF using hazardous and radioactive materials and that none of these materials were contemplated in the SSM PEIS. In a Memorandum Opinion and Order issued by the U.S. District Court for the District of Columbia on August 19, 1998, in NRDC v. Richardson, Civ. No. 97-936 (SS) (D.D.C.), the Court dismissed the Plaintiffs' case against the Government. Pursuant to paragraph 6 of the Order, DOE, no later than January 1, 2004, will (1) determine that experiments using plutonium, other fissile materials, fissionable materials other than depleted uranium, lithium hydride, or a Neutron Multiplying Assembly will not be conducted in the NIF, or (2) prepare a Supplemental SSM PEIS analyzing the reasonably foreseeable environmental impact of such experiments.

As indicated in the January 15, 2002 Federal Register Notice (67 FR 1969), “* * * at the present time there are no DOE proposals to use any of these materials in experiments in the NIF.” The Department has in place a process to determine whether or not to propose the use of any of these materials in NIF experiments. If DOE were to decide not to propose the use of any of these materials in the NIF, the SWEIS would analyze the impacts of current NIF operations. If DOE were to decide to propose the use of any of these materials in the NIF, a NEPA analysis and determination would be undertaken as a project specific analysis to be included in the SWEIS. In addition to addressing the impacts of using these materials, if DOE were to decide to propose their use, the NIF project specific analysis would update the information from the NIF portion of the SSM PEIS and would address the potential impacts of any proposed changes to NIF operations.

Defense Nuclear Technology, Classified Project

A second project-specific analysis for a proposed classified Stockpile Stewardship project involving facilities and equipment in the Superblock will be included in the LLNL SWEIS as a classified appendix. The project-specific analysis will include information on the mission need and an evaluation of the environmental impacts of the construction, commissioning, and operation of this proposed project. To the extent possible, the main body of the SWEIS will include as much unclassified information on this project as possible, including potential impacts.

Reduced Operation Alternative

The overall programmatic context for this alternative is the maintenance of existing missions at a reduced or modified scope. In this alternative, DOE would consider and analyze proposals for the reduction or cessation of specific operations to reduce adverse environmental impacts. This alternative may include reasonable proposals for consolidating operations into fewer facilities (including subsequent analysis of decommissioning or demolition of vacated facilities) that have technical merit and would still meet NNSA's national security missions. Analysis would include waste generated from facility decommissioning or demolition, and from sustained operation at the proposed reduced level. Analysis of this alternative would include impacts on staffing, traffic, energy consumption, and natural resources. The Reduced Operations Alternative will not consider the complete closure and decontamination and decommissioning of LLNL and/or Site 300 for the reasons that follow. As one of only three nuclear weapons laboratories, LLNL contributes significantly to the core intellectual and technical competencies of the United States related to nuclear weapons. These competencies embody more than 50 years of weapons knowledge and experience. The laboratories perform the basic research, design, system engineering, development testing, reliability and assessment, and certification of nuclear weapon safety, reliability, and performance. From a broader national security perspective, the core intellectual and technical competencies of LLNL (and Los Alamos National Laboratory and Sandia National Laboratory, DOE's other nuclear weapons laboratories) provide the technical basis for the pursuit of United States arms control and nuclear nonproliferation objectives. As such, NNSA has determined that the alternative to shut down LLNL completely is unreasonable and will not be analyzed in the SWEIS.

Preliminary Environmental Analysis

The following issues have been identified for analysis in the SWEIS. The list is tentative and intended to facilitate public comment on the scope of the SWEIS. It is not intended to be all-inclusive, nor does it imply any predetermination of potential impacts. The NNSA specifically invites suggestions for the addition or deletion of items on this list.

1. Potential effects on the public and workers from exposures to radiological and hazardous materials during normal operations, construction, and reasonably foreseeable accidents.

2. Impacts on surface and groundwater, floodplains and wetlands, and on water use and quality.

3. Impacts on air quality.

4. Impacts to plants and animals and their habitat, including species which are Federally or State listed as threatened or endangered, or of special concern.

5. Impacts on physiography, topography, geology, and soil characteristics.

6. Impacts to cultural resources such as those that are historic, prehistoric, archaeological, scientific, or paleontolological.

7. Socioeconomic impacts to affected communities.

8. Environmental Justice, particularly whether or not activities at LLNL have a disproportionately high and adverse effect on minority and/or low-income populations.

9. Potential impacts on land use plans and policies.

10. Impacts from transportation of radiological and hazardous materials on and off the LLNL sites.

11. Pollution prevention and waste management practices and activities.

12. Impacts on visual aesthetics and noise levels of the LLNL facilities on the surrounding communities and ambient environment.

13. Unavoidable adverse impacts due to natural phenomena (e.g., floods, earthquakes, etc.).

14. Cumulative effects of past, present, and future operations including SNL/CA.

15. Reasonably foreseeable impacts associated with the shutdown or demolition of excess facilities.

16. Impact of mitigation measures.

Related NEPA Reviews

Programmatic NEPA Reviews

The Waste Management Programmatic Environmental Impact Statement (PEIS) (DOE/EIS-0200) analyzed the DOE plan to formulate and implement a national integrated waste management program. The Final PEIS was published in May 1997 and a Record of Decision was published in the Federal Register on January 23, 1998 (63 FR 3629). The Final Stockpile Stewardship and Management PEIS was published in September 1996 [DOE/EIS-0236] and a Record of Decision (ROD) was signed by the Secretary of Energy on December 19, 1996 (61 FR 68014). Inherent in the many decisions made in the SSM PEIS ROD was the decision to continue the operation of the three national weapons laboratories, LLNL being one of the three. The ROD emphasized stockpile stewardship as an essential program to maintain the safety and reliability of the stockpile in the absence of underground nuclear testing, therefore requiring enhanced experimental capabilities in the future at the three national weapons laboratories. The SSM PEIS ROD also selected the LLNL as the site to construct and operate the NIF.

Sandia National Laboratories, California

A Notice of Intent to prepare a Site-Wide Environmental Assessment (SWEA) for Sandia National Laboratories, California (SNL/CA) was published in the Federal Register on February 4, 2002 (67 FR 5089). The SWEA will address operations and activities that DOE foresees at SNL/CA for approximately the next 5 to 10 years. The LLNL SWEIS will include the impacts from SNL/CA in the cumulative impacts section.

SWEIS Preparation Process

The SWEIS process begins with the publication of this Notice of Intent in the Federal Register. This notice establishes the public scoping period and the public scoping meetings as indicated above under DATES. Each public scoping meeting will begin with a briefing on the LLNL mission, proposed changes in operations and facilities, preliminary SWEIS alternatives, and the proposed action of the SWEIS. Copies of the meeting handouts will be available to anyone unable to attend by contacting the NNSA as described above under ADDRESSES. Following the initial presentation, NNSA representatives will answer scope-related questions and accept comments. After the close of the public scoping comment period, NNSA will begin development of the draft SWEIS. The draft SWEIS is expected to be available for public review in late 2003. Public meetings will be held following the Notice of Availability of the draft SWEIS. The publication of the final SWEIS is scheduled for mid 2004 and the Record of Decision is scheduled for late 2004.

Classified Material

NNSA will review classified material while preparing this SWEIS. Within the limits of classification, NNSA will provide to the public as much information as possible to assist public understanding and comment. Any classified material NNSA needs to use to explain the purpose and need for the action, the use of materials, or the development of impacts, will be segregated into a classified appendix or supplement, which will not be available for general public review. However, all unclassified results of calculations will be reported in the unclassified section of the SWEIS, to the extent possible in accordance with federal classification requirements.

Availability of Scoping Documents

Copies of scoping materials related to the SWEIS will be available at the following locations:

The DOE Energy Information Center, Oakland Federal Building, First Floor of the North Tower, Room 180N, 1301 Clay Street, Oakland, California. Phone (510) 637-1762.

Lawrence Livermore National Laboratory Public Reading Room in the Visitors Center Trailer 6525, located at the East Gate Entrance off of Greenville Road, Livermore, California. Phone (925) 424-4026.

Livermore Public Library, 1000 South Livermore Avenue, Livermore California.

Tracy Public Library, 20 East Eaton Avenue, Tracy, CA.

Issued in Washington, DC, this 7th day of June, 2002.
John A. Gordon,
Administrator, National Nuclear Security Administration.

[FR Doc. 02-15165 Filed 6-14-02; 8:45 am]

BILLING CODE 6450-01-P